DEPARTMENT OF AGRICULTURE

Forest Service

Public Meetings on the Black Hills National Forest Advisory Board

AGENCY: Forest Service, USDA.

ACTION: Notice of meetings.

SUMMARY: The Black Hills National Forest Advisory Board (NFAB) will hold meetings to become informed about Black Hills National Forest issues and to consider those issues so as to make management recommendations to the forest supervisor. The meetings are open, and the public may attend any part of the meetings.

Dates and Agenda Issues: Wednesday, July 14, 2004, from 1 to 5 p.m.—Travel Management.

ADDRESSES: Meeting location will be announced in local news media.

FOR FURTHER INFORMATION CONTACT: Frank Carroll, Black Hills National Forest, 25041 North Highway 16, Custer, SD 57730, (605) 673-9200.

Dated: July 2, 2004.
Franklin O. Carroll,
Black Hills National Forest Acting Forest Supervisor.

[FR Doc. 04-15597 Filed 7-8-04; 8:45 am]

BILLING CODE 3410-11-M